INTERNATIONAL TRADE COMMISSION

[Investigation Nos. 701-TA-608 and 731-TA-1420 (Review)]

Steel Racks From China

Determinations

On the basis of the record ¹ developed in the subject five-year reviews, the United States International Trade Commission (“Commission”) determines, pursuant to the Tariff Act of 1930 (“the Act”), that revocation of the countervailing duty order and antidumping duty order on steel racks from China would be likely to lead to continuation or recurrence of material injury to an industry in the United States within a reasonably foreseeable time.

¹ The record is defined in § 207.2(f) of the Commission's Rules of Practice and Procedure (19 CFR 207.2(f)).

Background

The Commission instituted these reviews on August 1, 2024 (89 FR 62779, August 1, 2024) and determined on November 4, 2024, that it would conduct expedited reviews (89 FR 96266, December 4, 2024).

The Commission made these determinations pursuant to section 751(c) of the Act (19 U.S.C. 1675(c)). It completed and filed its determinations in these reviews on February 27, 2025. The views of the Commission are contained in USITC Publication 5593 (February 2025), entitled Steel Racks from China: Investigation Nos. 701-TA-608 and 731-TA-1420 (Review).

By order of the Commission.
Issued: February 27, 2025.
Lisa Barton,
Secretary to the Commission.

[FR Doc. 2025-03505 Filed 3-4-25; 8:45 am]

BILLING CODE 7020-02-P